DEPARTMENT OF THE INTERIOR

National Park Service

[NPS-WASO-NAGPRA-NPS0035107; PPWOCRADN0-PCU00RP14.R50000]

Notice of Inventory Completion: Thomas Burke Memorial Washington State Museum, University of Washington, Seattle, WA

AGENCY: National Park Service, Interior.

ACTION: Notice.

SUMMARY: In accordance with the Native American Graves Protection and Repatriation Act (NAGPRA), the Thomas Burke Memorial Washington State Museum (Burke Museum) has completed an inventory of human remains and associated funerary objects and has determined that there is a cultural affiliation between the human remains and associated funerary objects and Indian Tribes or Native Hawaiian organizations in this notice. The human remains and associated funerary objects were removed from Thomas Bay in Petersburg Borough, AK.

DATES: Repatriation of the human remains and associated funerary objects in this notice may occur on or after February 13, 2023.

ADDRESSES: Peter Lape, Burke Museum, University of Washington, Box 353010, Seattle, WA 98195, telephone (206) 685-3849x2, email plape@uw.edu.

SUPPLEMENTARY INFORMATION: This notice is published as part of the National Park Service's administrative responsibilities under NAGPRA. The determinations in this notice are the sole responsibility of the Burke Museum. The National Park Service is not responsible for the determinations in this notice. Additional information on the determinations in this notice, including the results of consultation, can be found in the inventory or related records held by the Burke Museum.

Description

Human remains representing, at minimum, one individual were removed from a cave in Thomas Bay, AK, by Floyd Schmoe, who donated them to the Burke Museum (Burke Accession #2439). The human remains belong to an infant whose head is covered in red ochre. No known individual was identified. The six funerary objects are one wood box with metal handles, one piece of basketry matting with attached leather handles, one lot of cordage, one lot of fur, one animal hide, and one wool tunic with Chinese coins attached.

The funerary objects and burial characteristics indicate a relatively recent, historic era burial. The style of the wool tunic is consistent with Tlingit traditional garments. It was often considered a sign of wealth or status to use trade materials, in particular Chinese coins, to embellish Tlingit clothing. During consultation, genetic analysis was requested to confirm that the human remains are of Native American ancestry. The results of the analysis showed that the individual's mitochondrial DNA belongs to sub-haplogroup A2, which indicates Native American ancestry through the maternal line. Haplogroup A is the most common form of mitochondrial DNA in Native Americans in southeast Alaska (Kemp & Schurr, 2010).

Thomas Bay is located north of the town of Petersburg on the Alaskan mainland, and it lies within the aboriginal territory of the southern coast Tlingit Stikine (De Laguna 1990:204). According to local oral history, Thomas Bay was the location of two village sites that were destroyed and abandoned due to natural disaster and disease. Information provided during consultation indicates that the surviving residents of these villages relocated to Petersburg and are represented today by the Petersburg Indian Association.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, oral traditional, and other relevant information.

Determinations

Pursuant to NAGPRA and its implementing regulations, and after consultation with the appropriate Indian Tribes and Native Hawaiian organizations, the Burke Museum has determined that:

• The human remains described in this notice represent the physical remains of one individual of Native American ancestry.

• The six objects described in this notice are reasonably believed to have been placed with or near individual human remains at the time of death or later as part of the death rite or ceremony.

• There is a relationship of shared group identity that can be reasonably traced between the human remains and associated funerary objects described in this notice and the Petersburg Indian Association.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 13, 2023. If competing requests for repatriation are received, the Burke Museum must determine the most appropriate requestor prior to repatriation. Requests for joint repatriation of the human remains and associated funerary objects are considered a single request and not competing requests. The Burke Museum is responsible for sending a copy of this notice to the Indian Tribe identified in this notice.

Authority: Native American Graves Protection and Repatriation Act, 25 U.S.C. 3003, and the implementing regulations, 43 CFR 10.9, 10.10, and 10.14.

Dated: January 4, 2023.
Melanie O'Brien,
Manager, National NAGPRA Program.

[FR Doc. 2023-00477 Filed 1-11-23; 8:45 am]

BILLING CODE 4312-52-P